DEPARTMENT OF VETERANS AFFAIRS

Professional Certification and Licensure Advisory Committee; Notice of Meeting

The Department of Veterans Affairs gives notice under Public Law 92-463 (Federal Advisory Committee Act) that the Professional Certification and Licensure Advisory Committee has scheduled a meeting on Friday, June 10, 2005, at the Veterans Benefits Administration Conference Room 542, 1800 G Street, NW., Washington, DC, from 8:30 a.m. to 4 p.m. The meeting is open to the public.

The purpose of the committee is to advise the Secretary of Veterans Affairs on the requirements of organizations or entities offering licensing and certification tests to individuals for which payment for such tests may be made under chapter 30, 32, 34, or 35 of title 38, United States Code.

The meeting will begin with opening remarks by Ms. Sandra Winborne, Committee Chair. During the morning session, there will be a presentation on the usage of the license and certification test reimbursement benefit, and a discussion about outreach activities. The afternoon session will include statements from the public and a discussion about old and new business.

Interested persons may file written statements to the Committee before the meeting, or within 10 days after the meeting, with Mr. George Richon, Designated Federal Officer, Department of Veterans Affairs, Veterans Benefits Administration (225B), 610 Vermont Avenue, NW., Washington, DC 20420. Oral statements from the public will be heard at 1:30 p.m. on June 10, 2005. Anyone wishing to attend the meeting should contact George Richon or Michael Yunker at (202) 273-7187.

Dated: April 29, 2005.
By direction of the Secretary.
E. Philip Riggin,
Committee Management Officer.

[FR Doc. 05-8999 Filed 5-4-05; 8:45 am]

BILLING CODE 8320-01-M